DEPARTMENT OF COMMERCE

International Trade Administration

[A-570-862]

Notice of Extension of Time Limit of the Preliminary Results of Antidumping Duty Administrative Review: Foundry Coke From the People's Republic of China

AGENCY: Import Administration, International Trade Administration, Department of Commerce.

ACTION: Notice of extension of time limit of the preliminary results of the antidumping duty administrative review of foundry coke from the People's Republic of China.

SUMMARY: The Department of Commerce (“the Department”) is extending the time limit of the preliminary results of the antidumping duty administrative review of foundry coke from the People's Republic of China.

EFFECTIVE DATE: May 28, 2003.

FOR FURTHER INFORMATION CONTACT: Michael Holton, AD/CVD Enforcement, Group III, Office 9, Import Administration, International Trade Administration, U.S. Department of Commerce, 14th Street and Constitution Avenue, NW., Washington DC 20230; telephone: (202) 482-1324.

SUPPLEMENTARY INFORMATION:

Background

On September 3, 2002, the Department published a notice of opportunity to request an administrative review of the antidumping duty order on foundry coke from the People's Republic of China. See Antidumping or Countervailing Duty Order, Finding, or Suspended Investigation; Opportunity to Request Administrative Review, 67 FR 56267 (September 3, 2002). On September 30, 2002, Petitioners, ABC Coke, Citizens Gas & Coke Utility, Erie Coke Corporation, Sloss Industries Corporation, and Tonawanda Coke Corporation, requested the Department conduct an administrative review of sales of foundry coke from the PRC for the period March 8, 2001, through August 31, 2002. On October 24, 2002, the Department published a notice of initiation of an administrative review of the antidumping duty order on subject merchandise by CITIC Trading Co., Ltd. for the period March 8, 2001, through August 31, 2002. See Initiation of Antidumping and Countervailing Duty Administrative Reviews, 67 FR 65336 (October 24, 2002). The preliminary results of this administrative review are currently due no later than June 2, 2003.

Extension of Time Limit for Preliminary Results

Pursuant to section 751(a)(3)(A) of the Act, and section 351.213(h)(2) of the Department's regulations, the Department may extend the deadline for completion of the preliminary results of a review if it determines that it is not practicable to complete the preliminary results within the statutory time limit of 245 days from the date on which the review was initiated. Due to the complexity of the issues, the Department requires additional time to fully develop the record with respect to factors of production information. Accordingly, the Department has determined that it is not practicable to complete this review within the original time period provided in section 751(a)(3)(A) of the Act and section 351.213(h)(2) of the Department's regulations.

Therefore, we are extending the due date for the preliminary results by 120 days, until no later than September 7, 2003. The final results continue to be due 120 days after the publication of the preliminary results.

We are issuing this notice in accordance with section 751(a)(1) and 777(i)(1) of the Act.

Dated: May 19, 2003.
Barbara E. Tillman,
Acting Deputy Assistant Secretary for Import Administration, Group III.

[FR Doc. 03-13261 Filed 5-27-03; 8:45 am]

BILLING CODE 3510-DS-P